LEGAL SERVICES CORPORATION

Sunshine Act Meetings

TIME AND DATE: The Legal Services Corporation Board of Directors will meet virtually on May 28, 2025. The meeting will commence at 10:30 a.m. Eastern Time and will continue until the conclusion of the Board's agenda.

PLACE: Public Notice of Virtual Meeting.

LSC will conduct the May 28, 2025, meeting via videoconference. Unless otherwise noted herein, the LSC Board of Directors meeting will be open to public observation via LSC's YouTube channel: https://www.youtube.com/@LegalServicesCorp/streams.

STATUS: Open.

MATTERS TO BE CONSIDERED:

1. Approval of Agenda

2. Briefing by the Inspector General

3. Consider and Act on the Board of Directors' Transmittal Letter to Accompany the Inspector General's Semiannual Report to Congress for the Period of October 1, 2024, through April 30, 2025

4. Consider and Act on Other Business

5. Consider and Act on Adjournment of Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: May 19, 2025.
Stefanie Davis,
Deputy General Counsel, Legal Services Corporation.

[FR Doc. 2025-09206 Filed 5-19-25; 11:15 am]

BILLING CODE 7050-01-P